DEPARTMENT OF TRANSPORTATION

Office of the Secretary

Aviation Proceedings, Agreements Filed During the Week Ending September 1, 2000

The following Agreements were filed with the Department of Transportation under the provisions of 49 U.S.C. Sections 412 and 414. Answers may be filed within 21 days after the filing of the application.

Docket Number: OST-2000-7893.

Date Filed: September 1, 2000.

Parties: Members of the International Air Transport Association.

Subject: MV/PSC/111 dated July 28, 2000, Recommended Practice 1724 (Mail Vote S074), Intended effective date: October 1, 2000.

Dorothy Y. Beard,
Federal Register Liaison

[FR Doc. 00-23332 Filed 9-11-00; 8:45 am]

BILLING CODE 4910-62-P